DEPARTMENT OF STATE

[Public Notice: 12751; No. 2025-03]

Determination Pursuant to the Foreign Missions Act

Section 209(a) of the Foreign Missions Act, 22 U.S.C. 4301, et seq. (“the Act”), authorizes the Secretary of State to make any provision of the Act applicable with respect to “international organizations,” as defined in Section 209(b) of the Act, to the same extent that it is applicable with respect to foreign missions when the Secretary determines that such application is necessary to carry out the policy set forth in section 201(b) of the Act and to further the objectives set forth in section 204(b) of the Act. Such a determination was made by Determination No. FMA-2014-2, dated January 8, 2014. Accordingly, any provision of the Act may be applied to international organizations, to include official missions, other than a U.S. mission, to public international organizations designated as such pursuant to the International Organizations Immunities Act, 22. U.S.C. 288, et seq., (“IOIA”), and the personnel of such a mission.

Pursuant to the authority vested in the Secretary of State under the Act, and delegated pursuant to Department of State Delegation of Authority No. 214 of September 20, 1994, I hereby determine that the application of all provisions of the Act to the personnel of an official mission, other than a U.S. mission, to a public international organization designated as such pursuant to the IOIA encompasses the application of all provisions of the Act to all members of the mission, including when they have been assigned to their position by or otherwise represent an entity that is not recognized by the United States as the government of a foreign State. This is reasonably necessary to facilitate the secure and efficient operation of public international organizations and the official missions to such organizations; to assist in obtaining benefits, privileges, and immunities for these organizations; and to require their observance of corresponding obligations in accordance with international law. This is also reasonably necessary to achieve one or more of the purposes set forth in section 204(b) of the Act.

Furthermore, I determine that it is reasonably necessary to achieve one or more of the purposes set forth in section 204(b) of the Act to require members of official missions to public international organizations designated as such pursuant to the IOIA who have been assigned to their position by or otherwise represent entities that are not recognized by the United States as the government of a foreign State to comply with any requirements as may be established by the Director or Deputy Director of the Office of Foreign Missions, including with respect to limitations on travel within the United States, including Ports of Entry/Exit.

Any existing or future determinations, as well as any existing or future requirements established by the Director or Deputy Director of the Office of Foreign Missions, regarding the provision of benefits under the FMA, including those regarding restrictions on travel with the United States, that are generally applicable to “foreign government officials,” “government officials,” “officials,” or other members of official missions to public international organizations designated pursuant to the IOIA, including members of Permanent Missions to the United Nations, shall apply equally to all members of such missions irrespective of whether they have been assigned by or otherwise represent an entity that is not recognized by the United States as the government of a foreign State.

Clifton C. Seagroves,
Director, Acting, Office of Foreign Missions.

[FR Doc. 2025-12344 Filed 7-1-25; 8:45 am]

BILLING CODE 4711-11-P